SOCIAL SECURITY ADMINISTRATION

[Docket No. SSA 2019-0002]

Privacy Act of 1974; Matching Program

AGENCY: Social Security Administration (SSA).

ACTION: Notice of a new matching program.

SUMMARY: In accordance with the provisions of the Privacy Act, as amended, this notice announces new matching program with the Law Enforcement Agency (Source Jurisdiction).

The purpose of this agreement is to establish the terms, conditions, and safeguards under which SSA will conduct a computer matching program with Source Jurisdiction in accordance with the Privacy Act of 1974, as amended by the Computer Matching and Privacy Protection Act of 1988, and the regulations and guidance promulgated thereunder, to identify individuals in the Source Jurisdiction who are (1) fleeing fugitive felons, parole violators, or probation violators, as defined by the Social Security Act (Act) and in accordance with the Martinez Settlement and the Clark Court Order, as defined below; and who are also (2) Supplemental Security Income (SSI) recipients, Retirement, Survivors and Disability Insurance (RSDI) beneficiaries, Special Veterans Benefit (SVB) beneficiaries, or representative payees for SSI recipients, RSDI beneficiaries, or SVB beneficiaries.

DATES: The deadline to submit comments on the proposed matching program is 30 days from the date of publication of this notice in the Federal Register. The matching program will be applicable on October 10, 2019, or once a minimum of 30 days after publication of this notice has elapsed, whichever is later. The matching program will be in effect for a period of 18 months.

ADDRESSES: Interested parties may comment on this notice by either telefaxing to (410) 966-0869, writing to Mary Ann Zimmerman, Acting Executive Director, Office of Privacy and Disclosure, Office of the General Counsel, Social Security Administration, G-401 WHR, 6401 Security Boulevard, Baltimore, MD 21235-6401, or emailing Mary.Ann.Zimmerman@ssa.gov. All comments received will be available for public inspection by contacting Ms. Zimmerman at this street address.

FOR FURTHER INFORMATION CONTACT: Interested parties may submit general questions about the matching program to Mary Ann Zimmerman, Acting Executive Director, Office of Privacy and Disclosure, Office of the General Counsel, by any of the means shown above, or call (410) 965-8850.

SUPPLEMENTARY INFORMATION: None.

Mary Zimmerman,
Acting Executive Director, Office of Privacy and Disclosure, Office of the General Counsel.

Participating Agencies

SSA and Source Jurisdiction.

Authority for Conducting the Matching Program

The legal authority for the matching program conducted under this agreement is: Sections 1611(e)(4)(A), 202(x)(l)(A)(iv) and (v), and 804(a)(2) and (3) of the Act (42 U.S.C. 1382(e)(4)(A), 402(x)(l)(A)(iv) and (v), and 1004(a)(2) and (3)), which prohibit the payment of SSI, RSDI, or SVB benefits to an SSI recipient, RSDI beneficiary, or SVB beneficiary for any month during which such individual flees to avoid prosecution, or custody or confinement after conviction, under the applicable laws of the jurisdiction from which the person flees, for a crime or attempt to commit a crime considered to be a felony under the laws of said jurisdiction. These sections of the Act also prohibit payment of SSI, RSDI, or SVB benefits to a recipient/beneficiary in jurisdictions that do not define such crimes as felonies, but as crimes punishable by death or imprisonment for a term exceeding 1 year (regardless of the actual sentence imposed), and to an individual who violates a condition of probation or parole imposed under Federal or state law. As a result of a settlement of a nationwide class action in Martinez v. Astrue, No. 08-4735 (N.D. Cal. September 24, 2009) (Martinez Settlement), SSA's nonpayment of benefits under these sections of the Act is limited to individuals with certain flight- or escape-coded warrants. Further, as a result of a settlement of a nationwide class action in Clark v. Astrue, 06 Civ. 15521 (S.D. NY, April 13, 2012) (Clark Court Order), SSA's nonpayment of benefits under these sections of the Act cannot be based solely on the existence of parole or probation arrest warrants. Sections 1631(a)(2)(B)(iii)(V), 205(j)(2)(C)(i)(V), and 807(d)(1)(E) of the Act (42 U.S.C. 1383(a)(2)(B)(iii)(V), 405(j)(2)(C)(i)(V), 1007(d)(1)(E)), which prohibit SSA from using a person as a representative payee when such person is a person described in sections 1611(e)(4)(A), 202(x)(1)(A)(iv), or 804(a)(2) of the Act. The legal authority for SSA's disclosure of information to the Source Jurisdiction is: Sections 1106(a), 1611(e)(5), 1631(a)(2)(B)(xiv), 202(x)(3)(C), 205(j)(2)(B)(iii) and 807(b)(3) of the Act; the Privacy Act of 1974, as amended by the Computer Matching and Privacy Protection Act of 1988 (5 U.S.C. 552a(b)(3)); and SSA's disclosure regulations promulgated at 20 CFR 401.150. The settlement terms in Martinez v. Astrue and Clark v. Astrue do not restrict this disclosure authority in any manner.

Purpose(s)

This matching program establishes the conditions under which SSA will conduct a computer matching program with Source Jurisdiction to identify individuals in the Source Jurisdiction who are (1) fleeing fugitive felons, parole violators, or probation violators, as defined by the Act and in accordance with the Martinez Settlement and the Clark Court Order, as defined below; and who are also (2) SSI recipients, RSDI beneficiaries, SVB beneficiaries, or representative payees for SSI recipients, RSDI beneficiaries, or SVB beneficiaries.

Categories of Individuals

The individuals whose information is involved in this matching program are fleeing fugitive felons, probation violators, or parole violators. SSA will match the incoming Source Jurisdiction records to determine individuals who receive SSI, RSDI, SVB benefits, or individuals serving as representative payees.

Categories of Records

The Source Jurisdiction will provide specific data elements for individuals as specified in Attachment A. SSA data elements matched are individual's SSN, payment status, individual's name, date of birth, gender, and status as a representative payee.

System(s) of Records

The Source Jurisdiction will prepare and disclose its records electronically with clear identification of the record source including the name of the reporter and where the reporter obtained the information. SSA will match the following systems of records with the incoming Source Jurisdiction records: Supplemental Security Income Record and Special Veterans Benefits, 60-0103, originally published at 71 FR 1830 on January 11, 2006 and updated on December 10, 2007, at 72 FR 69723, July 3, 2018 at 83 FR 31250-31251, and November 1, 2018 at 83 FR 54969; Master Beneficiary Record, SSA/ORSIS 60-0090, originally published at 71 FR 1826 on January 11, 2006 and updated on December 10, 2007, at 72 FR 69723, and July 5, 2013 at 78 FR 40542, July 3, 2018 at 83 FR 31250-31251, and November 1, 2018 at 83 FR 54969; Master Representative Payee File, SSA/NCC 60-0222, originally published on April 22, 2013 at 78 FR 23811, and updated on July 3, 2018 at 83 FR 31250-31251 and November 2, 2018 at 83 FR 55228; and, Master Files of Social Security Number Holders and SSN Applications, SSA/OTSO 60-0058, originally published on December 29, 2010 at 75 FR 82121 and updated on July 5, 2013 at 78 FR 40542 and February 13, 2014 at 79 FR 8780, July 3, 2018 at 83 FR 31250-31251, and November 1, 2018 at 83 FR 54969. The Alphident file comes under this system of record.

[FR Doc. 2019-10031 Filed 5-14-19; 8:45 am]

BILLING CODE 4191-02-P